DEPARTMENT OF ENERGY

Bonneville Power Administration

Crooked River Valley Rehabilitation Project

AGENCY: Bonneville Power Administration (BPA), Department of Energy (DOE).

ACTION: Notice of availability of Record of Decision (ROD).

SUMMARY: This notice announces the availability of the ROD to fund implementation of Crooked River Valley Rehabilitation Project in Idaho County, Idaho. BPA has decided to fund implementation of Alternative 2 identified in the Crooked River Valley Rehabilitation Project Final Environmental Impact Statement (DOE/EIS-0506, June 2015). Alternative 2 consists of: (1) Constructing a 6,000 foot temporary bypass channel and temporary access road/levee and, following construction of the channel, removing and decommissioning these structures; (2) regrading approximately 115 acres of floodplain by moving dredge tailings; (3) filling in approximately 10,960 feet of the current channel, reconstructing approximately 7,400 feet of new channel, and constructing more than 2,700 feet of side channels; (4) replanting the valley bottom with native and approved non-native plant species; (5) staging materials and equipment at campgrounds; and (6) monitoring project activities and effectiveness. All mitigation measures identified in the environmental impact statement (EIS) are adopted.

ADDRESSES: Copies of the ROD and EIS may be obtained by calling BPA's toll-free document request line, 1-800-622-4520. The ROD and EIS Summary are also available on our Web site, www.bpa.gov/goto/CrookedRiver.

FOR FURTHER INFORMATION CONTACT: Brenda Aguirre, Bonneville Power Administration—KEC-4, P.O. Box 3621, Portland, Oregon, 97208-3621; toll-free telephone number 1-800-622-4519; fax number 503-230-5699; or email baguirre@bpa.gov.

Issued in Portland, Oregon: August 13, 2015.
Elliot E. Mainzer,
Administrator and Chief Executive Officer.

[FR Doc. 2015-20603 Filed 8-19-15; 8:45 am]

BILLING CODE 6450-01-P